DEPARTMENT OF COMMERCE

Bureau of Industry and Security

15 CFR Part 744

[Docket No. 110502272-1391-01]

RIN 0694-AF22

Addition of Persons Acting Contrary to the National Security or Foreign Policy Interests of the United States to the Entity List; and Implementation of Additional Changes From the Annual Review of the Entity List

AGENCY: Bureau of Industry and Security, Commerce.

ACTION: Final rule.

SUMMARY: This rule amends the Export Administration Regulations (EAR) by adding fifteen persons under twenty entries to the Entity List (Supplement No. 4 to Part 744) on the basis of section 744.11 of the EAR. The persons being added to the Entity List have been determined by the U.S. Government to be acting contrary to the national security or foreign policy interests of the United States. These persons will be listed under the following six destinations on the Entity List: Cyprus, Greece, Iran, Syria, Ukraine, and the United Kingdom (U.K.).

In addition, this rule amends the EAR to implement modifications to the Entity List on the basis of the annual review of the Entity List conducted by the End-User Review Committee (ERC), which the ERC conducts to determine if any entities on the Entity List should be removed or modified. This rule implements the results of the annual review for entities located in Syria.

Lastly, this rule makes a clarification to an existing entry located in China to clarify the relationship of a listed alias to the existing entry and to provide additional information on the alias.

DATES: Effective Date: This rule is effective August 15, 2011.

FOR FURTHER INFORMATION CONTACT: Karen Nies-Vogel, Chair, End-User Review Committee, Office of the Assistant Secretary, Export Administration, Bureau of Industry and Security, Department of Commerce, Phone: (202) 482-5991, Fax: (202) 482-3911, e-mail: ERC@bis.doc.gov.

SUPPLEMENTARY INFORMATION:

Background

The Entity List notifies the public that certain exports, reexports, and transfers (in-country) to entities identified on the Entity List require a license from BIS and that the availability of license exceptions in such transactions is limited. Entities are placed on the Entity List on the basis of certain sections of part 744 (Control Policy: End-User and End-Use Based) of the EAR.

The End-User Review Committee (ERC), composed of representatives of the Departments of Commerce (Chair), State, Defense, Energy and, when appropriate, the Treasury, makes all decisions regarding additions to, removals from, or other changes to the Entity List. The ERC makes all decisions to add an entry to the Entity List by majority vote and all decisions to remove or modify an entry by unanimous vote.

ERC Entity List Decisions

This rule implements decisions of the ERC to add persons to the Entity List and modify existing entries based on the annual review of the Entity List. First, this rule implements the decision of the ERC to add fifteen persons under twenty entries to the Entity List on the basis of section 744.11 (License requirements that apply to entities acting contrary to the national security or foreign policy interests of the United States) of the EAR. Second, this rule implements the results of the annual review for entities located in Syria by making modifications to seven existing entries under Syria on the Entity List.

Additions to the Entity List

This rule implements the decision of the ERC to add fifteen persons under twenty entries (including five additional entries) to the Entity List on the basis of section 744.11 of the EAR. The twenty entries added to the Entity List consist of one person in Cyprus, three persons in Greece, four persons in Iran, two persons in Syria, five persons in Ukraine, and five persons in the U.K. The additional five entries cover five additional addresses of persons added to the Entity List—these persons are being listed under multiple countries to account for alternate addresses of these persons in those countries. Specifically, these five additional entries cover one person in Ukraine who also has addresses in Iran and Syria (resulting in two additional entries for the Iran and Syria addresses), one person in Ukraine who also has addresses in Greece and in the U.K. (resulting in two additional entries for the Greece and U.K. addresses), and one person in the U.K. who also has an address in Cyprus (resulting in one additional entry for the Cyprus address).

The ERC reviewed section 744.11(b) (Criteria for revising the Entity List) in making the determination to add these persons to the Entity List. Under that paragraph, persons for whom, based on specific and articulable facts, there is reasonable cause to believe have been involved, are involved, or pose a significant risk of being or becoming involved in activities that are contrary to the national security or foreign policy interests of the United States and those acting on behalf of such persons may be added to the Entity List pursuant to section 744.11. Paragraphs (b)(1)-(b)(5) include an illustrative list of activities that could be contrary to the national security or foreign policy interests of the United States.

The persons being added to the Entity List under this rule have been determined by the ERC to be involved in activities that could be contrary to the national security or foreign policy interests of the United States. Examples of the specific activities these persons have been involved with that are contrary to the national security or foreign policy interests of the United States pursuant to section 744.11 include the violation of the license requirements imposed for exports and reexports to Syria as specified in General Order No. 2 of Supplement No. 1 to part 736 of the EAR, and violation of the embargo against Iran as specified in the Iran Transactions Regulations (31 CFR Part 560). Both Syria and Iran have been designated by the Secretary of State as countries that have repeatedly provided support for acts of international terrorism. Specifically, these persons were involved in the lease, transfer, and operation of commercial aircraft subject to the EAR, without the requisite licenses, for use in Syria and Iran.

Additions to the Entity List

This rule adds fifteen persons under twenty entries to the Entity List on the basis of section 744.11 of the EAR. For all of the fifteen persons added to the Entity List, the ERC specifies a license requirement for all items subject to the EAR and establishes a license application review policy of a presumption of denial. The license requirement applies to any transaction in which items are to be exported, reexported or transferred (in-country) to such persons or in which such persons act as purchaser, intermediate consignee, ultimate consignee, or end-user. In addition, no license exceptions are available for shipments to those persons being added to the Entity List.

Specifically, this rule adds the following fifteen persons under twenty entries to the Entity List:

Cyprus

(1) Niki Panteli Kyriakou, 91, Evgeniou Voulgareous, Limassol 4153, Cyprus (See alternate address under United Kingdom).

Greece

(1) Sergei (Sergi) Ivanovich Tomchani, a.k.a., Sergey Ivanovich Tomchani, 58, Vouliagmenis Ave Voula, 16673, Athens, Greece (See alternate addresses under Ukraine and United Kingdom);

(2) Sky Wings Airlines SA, 58, Vouliagmenis Ave Voula, 16673, Athens, Greece; and

(3) Socrates Vasilakis, 58, Vouliagmenis Ave Voula, 16673, Athens, Greece.

Iran

(1) Kish Airlines, Headquarters, No. 21 Ekbatan Main Blvd., P.O. Box 19395/4639, Tehran, 13938, Iran;

(2) Sahand Airlines, Sahand Airport, Bonab/Sahand, Iran;

(3) Ukraine Mediterranean Airlines, a.k.a., UM Airlines, UM Air, Building Negin Sai app. 105, Valiasr Str., Tehran, Iran (See alternate addresses under Ukraine and Syria); and

(4) Zagros Airlines, Abadan Airport, Abadan, Iran.

Syria

(1) Cham Wings Airlines, Al-Fardous Street, Damascus, Syria; and

(2) Ukraine Mediterranean Airlines, a.k.a., UM Airlines, UM Air, 29 Ayar Str., Julia Dumna building, Damascus, Syria (See alternate addresses under Iran and Ukraine).

Ukraine

(1) Khors Air Company, 34, Lesi Ukrainki Boulevard, Kiev, 01133, Ukraine; and 10, Mekhanizatoriv Street, Kiev, 03035, Ukraine;

(2) Natalya Totskaya, 34, Lesi Ukrainki Boulevard, Kiev, 01133, Ukraine; and 10, Mekhanizatoriv Street, Kiev, 03035, Ukraine;

(3) Roman Unytskyi, 34, Lesi Ukrainki Boulevard, Kiev, 01133, Ukraine; and 10, Mekhanizatoriv Street, Kiev, 03035, Ukraine;

(4) Sergei (Sergi) Ivanovich Tomchani, a.k.a., Sergey Ivanovich Tomchani, 34, Lesi Ukrainki Boulevard, Kiev, 01133, Ukraine; and 10, Mekhanizatoriv Street, Kiev, 03035, Ukraine (See alternate addresses under Greece and United Kingdom); and

(5) Ukraine Mediterranean Airlines, a.k.a., UM Airlines, UM Air, 7, Shulyavskaya Str., Kiev, Ukraine (See alternate addresses under Iran and Syria).

United Kingdom

(1) A.P. Finance Limited, 38, Princes Court—88 Brompton Road, Knightsbridge, London, SW3 1ES, United Kingdom; and Enterprise House, 113/115 George Lane, London, E18 1AB, United Kingdom;

(2) Anatolii Pysarenko, 38, Princes Court—88 Brompton Road, Knightsbridge, London, SW3 1ES, United Kingdom; and Enterprise House,113/115 George Lane, London, E18 1AB, United Kingdom;

(3) Myra Gkizi, 38, Princes Court—88 Brompton Road, Knightsbridge, London, SW3 1ES, United Kingdom;

(4) Niki Panteli Kyriakou, 38, Princes Court—88 Brompton Road, Knightsbridge, London, SW3 1ES, United Kingdom (See alternate address under Cyprus); and

(5) Sergei (Sergi) Ivanovich Tomchani, a.k.a., Sergey Ivanovich Tomchani, 38, Princes Court—88 Brompton Road, Knightsbridge, London, SW3 1ES, United Kingdom; and Enterprise House 113/115 George Lane, London, E18 1AB, United Kingdom (See alternate addresses under Greece and Ukraine).

Annual Review of the Entity List

This rule amends the EAR to implement changes to the Entity List (Supplement No. 4 to part 744) on the basis of the annual review of the Entity List conducted by the ERC, in accordance with the procedures outlined in Supplement No. 5 to part 744 (Procedures for End-User Review Committee Entity List Decisions). The changes from the annual review of the Entity List that are approved by the ERC are implemented in stages as the ERC completes its review of entities listed under different destinations on the Entity List. This rule implements the results of the annual review for entities located in Syria.

Modifications to the Entity List

On the basis of decisions made by the ERC during the annual review, this rule amends seven entries currently on the Entity List under Syria by modifying or adding addresses or aliases, as follows:

Syria

(1) EKT Electronics, a.k.a., Katrangi Electronics, Katrangi Trading, Katranji Labs, Electronics Systems, #1 floor, 11/A, Abbasieh Building, Hijaz Street, P.O. Box 10112, Damascus, Syria; and #1 floor, 02/A, Fares Building, Rami Street, Margeh, Damascus, Syria (See alternate address under Lebanon).

(2) Encyclopedia Electronics Center, a.k.a., Hassan Matni Import Export Co., Nazir Matni Electronics, Mosalam Baroudi Street, P.O. Box 12071, Halbouni, Damascus, Syria.

(3) Higher Institute of Applied Science and Technology (HIAST), a.k.a., Institut Superieur des Sciences Appliquées et de Technologie (ISSAT), Institut des Sciences Appliquées et de Technologie (ISAT), P.O. Box 31983, Barzeh, Damascus, Syria.

(4) Industrial Establishment of Defense (IED), a.k.a., Industrial Establishment of Defence (IED), Établissements Industriels de la Défense (EID), Etablissement Industrial de la Defence (ETINDE), Al Thawraa Street, P.O. Box 2330, Damascus, Syria.

(5) Mohammed Katranji, #1 floor, 11/A, Abbasieh Building, Hijaz Street, P.O. Box 10112, Damascus, Syria; and #1 floor, 02/A, Fares Building, Rami Street, Margeh, Damascus, Syria (See alternate address under Lebanon).

(6) National Standards and Calibration Laboratory (NSCL), a.k.a., Scientific Studies and Research Center (SSRC)-NSCL, Institut National Calibration Centre, P.O. Box 4470, Damascus, Syria.

(7) Scientific Studies and Research Center (SSRC), a.k.a., Center for Scientific Studies and Research (SSRC), Scientific Studies Research Centre (SSRC), Centre d'Etudes et de Recherches Scientifiques (CERS), Center for Study and Research (CERS), Scientific Studies and Research Council, Syrian Scientific Research Council, Scientific Research Council (SRC), P.O. Box 4470, Damascus, Syria.

Clarification to the Entity List and Correction to Published Rule

BIS published a final rule on April 18, 2011 (76 FR 21628) (April 18 Final Rule) that made revisions to the Entity List. These revisions included a clarification in the preamble of the rule that the “901 Institute” should be listed as one of nineteen individual aliases for the listed person the “Chinese Academy of Engineering Physics” (CAEP) and not as part of the eighteenth alias, i.e. the “University of Electronic Science and Technology of China” (UESTC). The final rule published today makes two additional changes to the existing entry for CAEP. First, as a clarification, this rule adds an address for the “901 Institute,” to assist exporters, reexporters, and transferors in more easily identifying this listed alias for CAEP. The addition of this address was approved by the ERC.

Second, this rule corrects an inadvertent error in the April 18 Final Rule by removing “901 Institute” as an alias of CAEP's eighteenth alias in Supplement No. 4 to part 744 of the EAR because, as explained in the April 18 Final Rule and noted above, the “901 Institute” is not part of the eighteenth alias (i.e. UESTC) but is a distinct nineteenth alias for CAEP. Although this conforming change was correctly described in the preamble of the April 18 Final Rule, it was not included in the regulatory text. This final rule corrects that error by amending the regulatory text to remove the reference to the “901 Institute” in CAEP's eighteenth alias (i.e. UESTC) and listing it as CAEP's nineteenth alias. The ERC cleared the removal of the “901 Institute” as an alias of UESTC and its addition as CAEP's nineteenth alias prior to the publication of the April 18 Final Rule.

Specifically, this rule revises this existing entry to the Entity List, as described above, to read as follows:

China

(1) Chinese Academy of Engineering Physics, a.k.a., the following nineteen aliases:

—Ninth Academy;

—Southwest Computing Center;

—Southwest Institute of Applied Electronics;

—Southwest Institute of Chemical Materials;

—Southwest Institute of Electronic Engineering;

—Southwest Institute of Environmental Testing;

—Southwest Institute of Explosives and Chemical Engineering;

—Southwest Institute of Fluid Physics;

—Southwest Institute of General Designing and Assembly;

—Southwest Institute of Machining Technology;

—Southwest Institute of Materials;

—Southwest Institute of Nuclear Physics and Chemistry (a.k.a., China Academy of Engineering Physics (CAEP)'s 902 Institute);

—Southwest Institute of Research and Applications of Special Materials Factory;

—Southwest Institute of Structural Mechanics; (all of the preceding located in or near Mianyang, Sichuan Province);

—Chengdu Electronic Science and Technology University (CUST);

—The High Power Laser Laboratory, Shanghai;

—The Institute of Applied Physics and Computational Mathematics, Beijing;

—*University of Electronic Science and Technology of China (No. 4, 2nd Section, North Jianshe Road, Chengdu, 610054); and

—*901 Institute, P.O. Box 523, Chengdu, 6100003.

Savings Clause

Shipments of items removed from eligibility for a License Exception or export or reexport without a license (NLR) as a result of this regulatory action that were on dock for loading, on lighter, laden aboard an exporting or reexporting carrier, or en route aboard a carrier to a port of export or reexport, on August 15, 2011, pursuant to actual orders for export or reexport to a foreign destination, may proceed to that destination under the previous eligibility for a License Exception or export or reexport without a license (NLR) so long as they are exported or reexported before August 30, 2011. Any such items not actually exported or reexported before midnight, on August 30, 2011, require a license in accordance with the EAR.

Although the Export Administration Act expired on August 20, 2001, the President, through Executive Order 13222 of August 17, 2001, 3 CFR, 2001 Comp., p. 783 (2002), as extended by the Notice of August 12, 2010, 75 FR 50681 (August 16, 2010), has continued the Export Administration Regulations in effect under the International Emergency Economic Powers Act.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by the OMB under control numbers 0694-0088, “Multi-Purpose Application,” which carries a burden hour estimate of 43.8 minutes for a manual or electronic submission. Total burden hours associated with the Paperwork Reduction Act and Office and Management and Budget control number 0694-0088 are not expected to increase as a result of this rule. You may send comments regarding the collection of information associated with this rule, including suggestions for reducing the burden, to Jasmeet K. Seehra, Office of Management and Budget (OMB), by e-mail to Jasmeet_K._Seehra@omb.eop.gov, or by fax to (202) 395-7285.

3. This rule does not contain policies with Federalism implications as that term is defined in Executive Order 13132.

4. The provisions of the Administrative Procedure Act (5 U.S.C. 553) requiring notice of proposed rulemaking, the opportunity for public comment and a delay in effective date are inapplicable because this regulation involves a military or foreign affairs function of the United States (See 5 U.S.C. 553(a)(1)). BIS implements this rule to protect U.S. national security or foreign policy interests by preventing items from being exported, reexported, or transferred (in-country) to the persons being added to the Entity List. If this rule were delayed to allow for notice and comment and a delay in effective date, then entities being added to the Entity List by this action would continue to be able to receive items without a license and to conduct activities contrary to the national security or foreign policy interests of the United States. Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable.

List of Subjects in 15 CFR Part 744

Exports, Reporting and recordkeeping requirements, Terrorism.

Accordingly, part 744 of the Export Administration Regulations (15 CFR parts 730-774) is amended as follows:

PART 744—[AMENDED]

1. The authority citation for 15 CFR part 744 is revised to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 12, 2010, 75 FR 50681 (August 16, 2010); Notice of November 4, 2010, 75 FR 68673 (November 8, 2010); Notice of January 13, 2011, 76 FR 3009 (January 18, 2011).

2. Supplement No. 4 to part 744 is amended:

(a) By revising under China, in alphabetical order, one Chinese entity;

(b) By adding, in alphabetical order, the destination of Cyprus under the Country column and one Cypriot entity;

(c) By adding, in alphabetical order, the destination of Greece under the Country column and three Greek entities;

(d) By adding under Iran, in alphabetical order, four Iranian entities;

(e) By adding under Syria, in alphabetical order, two Syrian entities, “Cham Wings Airlines” and “Ukraine Mediterranean Airlines, a.k.a., UM Airlines, UM Air”;

(f) By revising under Syria, in alphabetical order, seven Syrian entities;

(g) By adding, in alphabetical order, the destination of Ukraine under the Country column and five Ukrainian entities; and

(h) By adding under the United Kingdom, in alphabetical order, five British entities.

The additions and revisions read as follows:

Country | Entity | License requirement | License review policy | Federal Register citation
* * * * * * *
CHINA, PEOPLE'S REPUBLIC OF | * * * * * * *
| Chinese Academy of Engineering Physics, a.k.a., the following nineteen aliases: —Ninth Academy; —Southwest Computing Center; —Southwest Institute of Applied Electronics; —Southwest Institute of Chemical Materials; —Southwest Institute of Electronic Engineering; —Southwest Institute of Environmental Testing; | For all items subject to the EAR | Case-by-case basis | 62 FR 35334, 6/30/97 66 FR 24266, 5/14/01 75 FR 78883, 12/17/10. 76 FR 21628, 4/18/11. 76 FR [INSERT FR PAGE NUMBER], 8/15/11.
| —Southwest Institute of Explosives and Chemical Engineering; —Southwest Institute of Fluid Physics; —Southwest Institute of General Designing and Assembly; —Southwest Institute of Machining Technology; —Southwest Institute of Materials; —Southwest Institute of Nuclear Physics and Chemistry (a.k.a., China Academy of Engineering Physics (CAEP)'s 902 Institute); —Southwest Institute of Research and Applications of Special Materials Factory; —Southwest Institute of Structural Mechanics; (all of the preceding located in or near Mianyang, Sichuan Province); —Chengdu Electronic Science and Technology University (CUST); —The High Power Laser Laboratory, Shanghai; —The Institute of Applied Physics and Computational Mathematics, Beijing; —University of Electronic Science and Technology of China (No. 4, 2nd Section, North Jianshe Road, Chengdu, 610054); and —901 Institute (P.O. Box 523, Chengdu, 6100003).
* * * * * * *
CYPRUS | Niki Panteli Kyriakou, 91, Evgeniou Voulgareous, Limassol 4153, Cyprus (See alternate address under United Kingdom) | For all items subject to the EAR. (See § 744.11 of the EAR) | Presumption of denial | 76 FR [INSERT FR PAGE NUMBER], 8/15/11.
| * * * * * * *
GREECE | Sergei (Sergi) Ivanovich Tomchani, a.k.a., Sergey Ivanovich Tomchani, 58, Vouliagmenis Ave Voula, 16673, Athens, Greece (See alternate addresses under Ukraine and United Kingdom) | For all items subject to the EAR. (See § 744.11 of the EAR) | Presumption of denial | 76 FR [INSERT FR PAGE NUMBER], 8/15/11.
| Sky Wings Airlines SA, 58, Vouliagmenis Ave Voula, 16673, Athens, Greece | For all items subject to the EAR. (See § 744.11 of the EAR) | Presumption of denial | 76 FR [INSERT FR PAGE NUMBER], 8/15/11.
| Socrates Vasilakis, 58, Vouliagmenis Ave Voula, 16673, Athens, Greece | For all items subject to the EAR. (See § 744.11 of the EAR) | Presumption of denial | 76 FR [INSERT FR PAGE NUMBER], 8/15/11.
| * * * * * * *
IRAN | * * * * * * *
| Kish Airlines, Headquarters, No. 21 Ekbatan Main Blvd., P.O. Box 19395/4639, Tehran, 13938, Iran | For all items subject to the EAR. (See § 744.11 of the EAR) | Presumption of denial | 76 FR [INSERT FR PAGE NUMBER], 8/15/11.
| * * * * * * *
| Sahand Airlines, Sahand Airport, Bonab/Sahand, Iran | For all items subject to the EAR. (See § 744.11 of the EAR) | Presumption of denial | 76 FR [INSERT FR PAGE NUMBER], 8/15/11.
| * * * * * * *
| Ukraine Mediterranean Airlines, a.k.a., UM Airlines, UM Air, Building Negin Sai app. 105, Valiasr Str., Tehran, Iran (See alternate addresses under Ukraine and Syria) | For all items subject to the EAR. (See § 744.11 of the EAR) | Presumption of denial | 76 FR [INSERT FR PAGE NUMBER], 8/15/11.
| * * * * * * *
| Zagros Airlines, Abadan Airport, Abadan, Iran | For all items subject to the EAR. (See § 744.11 of the EAR) | Presumption of denial | 76 FR [INSERT FR PAGE NUMBER], 8/15/11.
| * * * * * * *
SYRIA | Cham Wings Airlines, Al-Fardous Street, Damascus, Syria | For all items subject to the EAR. (See § 744.11 of the EAR) | Presumption of denial | 76 FR [INSERT FR PAGE NUMBER], 8/15/11.
| EKT Electronics, a.k.a., Katrangi Electronics, Katrangi Trading, Katranji Labs, Electronics Systems, #1 floor, 11/A, Abbasieh Building, Hijaz Street, P.O. Box 10112, Damascus, Syria; and #1 floor, 02/A, Fares Building, Rami Street, Margeh, Damascus, Syria (See alternate address under Lebanon) | For all items subject to the EAR. (See § 744.11 of the EAR) | Presumption of denial | 73 FR 54503, 9/22/08 76 FR [INSERT FR PAGE NUMBER], 8/15/11.
| Encyclopedia Electronics Center, a.k.a., Hassan Matni Import Export Co., Nazir Matni Electronics, Mosalam Baroudi Street, P.O. Box 12071, Halbouni, Damascus, Syria | For all items subject to the EAR. (See § 744.11 of the EAR) | Presumption of denial | 73 FR 54503, 9/22/08 76 FR [INSERT FR PAGE NUMBER], 8/15/11.
| Higher Institute of Applied Science and Technology (HIAST), a.k.a., Institut Superieur des Sciences Appliquées et de Technologie (ISSAT), Institut des Sciences Appliquées et de Technologie (ISAT), P.O. Box 31983, Barzeh, Damascus, Syria | For all items subject to the EAR. (See § 744.11 of the EAR) | Presumption of denial | 70 FR 11861, 3/10/05 76 FR [INSERT FR PAGE NUMBER], 8/15/11.
| Industrial Establishment of Defense (IED), a.k.a., Industrial Establishment of Defence (IED), Établissements Industriels de la Défense (EID), Etablissement Industrial de la Defence (ETINDE), Al Thawraa Street, P.O. Box 2330, Damascus, Syria | For all items subject to the EAR. (See § 744.11 of the EAR) | Presumption of denial | 70 FR 11861, 3/10/05 76 FR [INSERT FR PAGE NUMBER], 8/15/11.
| Mohammed Katranji, #1 floor, 11/A, Abbasieh Building, Hijaz Street, P.O. Box 10112, Damascus, Syria; and #1 floor, 02/A, Fares Building, Rami Street, Margeh, Damascus, Syria (See alternate address under Lebanon) | For all items subject to the EAR. (See § 744.11 of the EAR) | Presumption of denial | 73 FR 54503, 9/22/08 76 FR [INSERT FR PAGE NUMBER], 8/15/11.
| National Standards and Calibration Laboratory (NSCL), a.k.a., Scientific Studies and Research Center (SSRC)-NSCL, Institut National Calibration Centre, P.O. Box 4470, Damascus, Syria | For all items subject to the EAR. (See § 744.11 of the EAR) | Presumption of denial | 70 FR 11861, 3/10/05 76 FR [INSERT FR PAGE NUMBER], 8/15/11.
| Scientific Studies and Research Center (SSRC), a.k.a., Center for Scientific Studies and Research (SSRC), Scientific Studies Research Centre (SSRC), Centre d'Etudes et de Recherches Scientifiques (CERS), Center for Study and Research (CERS), Scientific Studies and Research Council, Syrian Scientific Research Council, Scientific Research Council (SRC), P.O. Box 4470, Damascus, Syria | For all items subject to the EAR. (See § 744.11 of the EAR) | Presumption of denial | 70 FR 11861, 3/10/05 76 FR [INSERT FR PAGE NUMBER], 8/15/11.
| Ukraine Mediterranean Airlines, a.k.a., UM Airlines, UM Air, 29 Ayar Str., Julia Dumna building, Damascus, Syria (See alternate addresses under Iran and Ukraine) | For all items subject to the EAR. (See § 744.11 of the EAR) | Presumption of denial | 76 FR [INSERT FR PAGE NUMBER], 8/15/11.
| * * * * * * *
UKRAINE | Khors Air Company, 34, Lesi Ukrainki Boulevard, Kiev, 01133, Ukraine; and 10, Mekhanizatoriv Street, Kiev, 03035, Ukraine | For all items subject to the EAR. (See § 744.11 of the EAR) | Presumption of denial | 76 FR [INSERT FR PAGE NUMBER], 8/15/11.
| Natalya Totskaya, 34, Lesi Ukrainki Boulevard, Kiev, 01133, Ukraine; and 10, Mekhanizatoriv Street, Kiev, 03035, Ukraine | For all items subject to the EAR. (See § 744.11 of the EAR) | Presumption of denial | 76 FR [INSERT FR PAGE NUMBER], 8/15/11.
| Roman Unytskyi, 34, Lesi Ukrainki Boulevard, Kiev, 01133, Ukraine; and 10, Mekhanizatoriv Street, Kiev, 03035, Ukraine | For all items subject to the EAR. (See § 744.11 of the EAR) | Presumption of denial | 76 FR [INSERT FR PAGE NUMBER], 8/15/11.
| Sergei (Sergi) Ivanovich Tomchani, a.k.a., Sergey Ivanovich Tomchani, 34, Lesi Ukrainki Boulevard, Kiev, 01133, Ukraine; and 10, Mekhanizatoriv Street, Kiev, 03035, Ukraine (See alternate addresses under Greece and United Kingdom) | For all items subject to the EAR. (See § 744.11 of the EAR) | Presumption of denial | 76 FR [INSERT FR PAGE NUMBER], 8/15/11.
| Ukraine Mediterranean Airlines, a.k.a., UM Airlines, UM Air, 7, Shulyavskaya Str., Kiev, Ukraine (See alternate addresses under Iran and Syria) | For all items subject to the EAR. (See § 744.11 of the EAR) | Presumption of denial | 76 FR [INSERT FR PAGE NUMBER], 8/15/11.
| * * * * * * *
UNITED KINGDOM | A.P. Finance Limited, 38, Princes Court—88 Brompton Road, Knightsbridge, London, SW3 1ES, United Kingdom; and Enterprise House, 113/115 George Lane, London, E18 1AB, United Kingdom | For all items subject to the EAR. (See § 744.11 of the EAR) | Presumption of denial | 76 FR [INSERT FR PAGE NUMBER], 8/15/11.
| Anatolii Pysarenko, 38, Princes Court—88 Brompton Road Knightsbridge, London, SW3 1ES, United Kingdom; and Enterprise House,113/115 George Lane, London, E18 1AB, United Kingdom | For all items subject to the EAR. (See § 744.11 of the EAR) | Presumption of denial | 76 FR [INSERT FR PAGE NUMBER], 8/15/11.
| * * * * * * *
| Myra Gkizi, 38, Princes Court—88 Brompton Road, Knightsbridge, London, SW3 1ES, United Kingdom | For all items subject to the EAR. (See § 744.11 of the EAR) | Presumption of denial | 76 FR [INSERT FR PAGE NUMBER], 8/15/11.
| Niki Panteli Kyriakou, 38, Princes Court—88 Brompton Road, Knightsbridge, London, SW3 1ES, United Kingdom (See alternate address under Cyprus) | For all items subject to the EAR. (See § 744.11 of the EAR) | Presumption of denial | 76 FR [INSERT FR PAGE NUMBER], 8/15/11.
| Sergei (Sergi) Ivanovich Tomchani, a.k.a., Sergey Ivanovich Tomchani, 38, Princes Court—88 Brompton Road, Knightsbridge, London, SW3 1ES, United Kingdom; and Enterprise House 113/115 George Lane, London, E18 1AB, United Kingdom (See alternate addresses under Greece and Ukraine) | For all items subject to the EAR. (See § 744.11 of the EAR) | Presumption of denial | 76 FR [INSERT FR PAGE NUMBER], 8/15/11.

Dated: August 4, 2011.
Kevin J. Wolf
Assistant Secretary for Export Administration.

[FR Doc. 2011-20602 Filed 8-12-11; 8:45 am]

BILLING CODE 3510-33-P